EXPORT-IMPORT BANK

[Public Notice 2015-6018]

Agency Information Collection Activities: Comment Request

AGENCY: Export-Import Bank of the U.S.

ACTION: Submission for OMB review and comments request.

Form Title: EIB 94-07 Exporters Certificate for Use with a Short Term Export Credit Insurance Policy.

SUMMARY: The Export-Import Bank of the United States (EXIM Bank), as a part of its continuing effort to reduce paperwork and respondent burden, invites the general public and other Federal Agencies to comment on the proposed information collection, as required by the Paperwork Reduction Act of 1995.

EXIM Bank's financial institution policy holders provide this form to U.S. exporters, who certify to the eligibility of their exports for EXIM Bank support. The completed forms are held by the financial institution policy holders, only to be submitted to EXIM Bank in the event of a claim filing. A requirement of EXIM Bank's policies is that the insured financial institution policy holder obtains a completed Exporter's Certificate at the time it provides financing for an export. This form will enable EXIM Bank to identify the specific details of the export transaction. These details are necessary for determining the eligibility of claims for approval. EXIM Bank staff and contractors review this information to assist in determining that an export transaction, on which a claim for non-payment has been submitted, meets all of the terms and conditions of the insurance coverage.

The form can be viewed at http://exim.gov/sites/default/files/pub/pending/eib94-07.pdf.

DATES: Comments must be received on or before October 5, 2015 to be assured of consideration.

ADDRESSES: Comments may be submitted electronically on www.regulations.gov or by mail to Michele Kuester, Export-Import Bank, 811 Vermont Ave NW., Washington, DC 20571.

SUPPLEMENTARY INFORMATION:

Titles and Form Number: EIB 94-07 Exporters Certificate for Use with a Short Term Export Credit Insurance Policy.

OMB Number: 3048-0041.

Type of Review: Regular.

Need and Use: EXIM Bank uses the referenced form to obtain exporter certification regarding the export transaction, U.S. content, non-military use, non-nuclear use, compliance with EXIM Bank's country cover policy, and their eligibility to participate in USG programs. These details are necessary to determine the legitimacy of claims submitted. It also provides the financial institution policy holder a check on the export transaction's eligibility, at the time it is fulfilling a financing request.

Affected Public

This form affects entities involved in the export of U.S. goods and services.

Annual Number of Respondents: 240.

Estimated Time per Respondent: 15 minutes.

Annual Burden Hours: 60 hours.

Frequency of Reporting of Use: As required.

Government Expenses

Reviewing Time per Year: 12 hours.

Average Wages per Hour: $42.50.

Average Cost per Year: $510.

(time * wages)

Benefits and Overhead: 20%.

Total Government Cost: $612.

Bonita Jones-McNeil,
Program Analyst, Office of the Chief Information Officer.

[FR Doc. 2015-19212 Filed 8-4-15; 8:45 am]

BILLING CODE 6690-01-P